DEPARTMENT OF HOUSING AND URBAN DEVELOPMENT

[Docket No. FR-5408-N-02]

Notice of Availability of the Draft Environmental Impact Statement for the Yesler Terrace Redevelopment Project

AGENCY: Office of the Assistant Secretary for Community Planning and Development, HUD.

ACTION: Notice.

SUMMARY: The Department of Housing and Urban Development (HUD) gives notice to the public, agencies, and Indian tribes that the Seattle Housing Authority and the City of Seattle Human Services Department (Community Development Block Grant (CDBG) Administration Unit) have prepared a Draft Environmental Impact Statement (DEIS) for the Yesler Terrace Redevelopment Project, located in the City of Seattle, King County, WA. The project proponent is the Seattle Housing Authority. The City of Seattle Human Services Department and the Seattle Housing Authority, acting jointly as lead agencies, have prepared the DEIS under the authority of the City of Seattle Human Services Department as the Responsible Entity for compliance with the National Environmental Policy Act (NEPA) in accordance with 42 U.S.C. 1437x and HUD regulations at 24 CFR 58.4, and under the Seattle Housing Authority's role as lead agency in accordance with the Washington State Environmental Policy Act (SEPA). The DEIS is a joint NEPA and SEPA document. The DEIS satisfies requirements of SEPA (RCW 43.21C) and the SEPA Rules (WAC 197-11) which require that all state and local government agencies consider the environmental consequences of projects over which they have discretionary authority before acting on those projects. The proposed action is subject to compliance with NEPA, because funds from the public housing programs under Title I of the United States Housing Act of 1937 (HOPE VI, Capital Funds, Demolition/Disposition) will be used for this project (24 CFR 58.1(b)(6)(i)). This notice is given in accordance with the Council on Environmental Quality regulations at 40 CFR parts 1500-1508. All interested Federal, State, and local agencies, Indian tribes, groups, and the public are also invited to comment on the DEIS. If you are an agency with jurisdiction by law over natural or other public resources affected by the project, the Seattle Housing Authority and the City of Seattle Human Services Department need to know what environmental information germane to your statutory responsibilities should be included in the DEIS.

ADDRESSES: Comments relating to the DEIS are requested and will be accepted by the contact persons listed below until December 13, 2010. Any person or agency interested in receiving a notice and wishing to make comment on the DEIS should contact the persons listed below.

FOR FURTHER INFORMATION CONTACT: Stephanie Van Dyke, Development Director of the Seattle Housing Authority, YTEISComments@seattlehousing.org, P.O. Box 19028, Seattle, WA 98109-1028, (f) 206-615-3539 (SEPA) and Kristen Larson, Project Funding and Agreements Coordinator, City of Seattle Human Services Department, CDBG Administration Unit, Kristen.Larson@seattle.gov, P.O. Box 34215, Seattle, WA 98124-4215, (f) 206-621-5003 (NEPA).

For additional background information on the project proposal, please see the Seattle Housing Authority Web site: http://www.seattlehousing.org/redevelopment/yesler-terrace/.

Public Participation: A public hearing on the DEIS will be held for the public to provide verbal or written comment on the DEIS. At the meeting, the public will be able to view graphics illustrating preliminary redevelopment concepts associated with the proposed actions and speak with staff of the Seattle Housing Authority, the City of Seattle and members of the consultant team providing technical analyses in support of the project. Written comments may be mailed, sent via fax or e-mailed to the Seattle Housing Authority contact listed above or submitted at the public hearing on the DEIS.

The public hearing will be held at the Yesler Community Center (835 Yesler Way, Seattle, WA 98122) on November 30, 2010 at 6 p.m. For accommodations and translation services in conjunction with the public hearing, please contact Collette Frazier, (p) (206) 615-3556.

SUPPLEMENTARY INFORMATION:

Project Name and Description

The Seattle Housing Authority and the City of Seattle Human Services Department will consider a proposal for a phased redevelopment of the existing Yesler Terrace residential community to a mixed-use residential community on a 28-acre site on the southern slope of First Hill in Seattle, WA. The proposed project is generally bounded by Interstate 5 on the west, Alder Street and Fir Street on the north, 12th Avenue on the east, and Washington Street on the south.

The proposed project would include development of a mix of affordable and market-rate housing, office and retail uses, as well as parks and open space, enhanced landscaping, improved streets and a system of pedestrian and bike improvements. All existing residential structures on the site would be demolished under the Proposed Action; other structures on the site may also be demolished. The existing Yesler Terrace community center would be retained. It is anticipated that the redevelopment of Yesler Terrace will take approximately 15 to 20 years to complete.

The proposed actions may involve the following: Comprehensive Plan Amendment, text amendment to the Land Use Code to allow a new zone for Yesler Terrace, street vacation, preliminary and final plat approval, adoption of a Planned Action Ordinance, Development Agreement approval, other construction and building permits and other federal, state and local approvals for redevelopment of the Yesler Terrace community.

The EIS is also intended to fulfill SEPA requirements for a Planned Action environmental review for the portion of the site west of Boren Avenue, per RCW 43.21C.031, SMC 25.05.164 [et seq.], and SHA Resolution 4945. According to SEPA, a “Planned Action” is a designation for a project or elements of a project that shifts environmental review from the time a permit application is made to an earlier phase in the process, such as at the Comprehensive Plan amendment and/or rezone phase. The intent of this designation is to provide a more streamlined environmental process by using an existing EIS prepared at this earlier stage for SEPA compliance for long-term actions.

This is to be a combined document—an EIS under the State of Washington State Environmental Policy Act (RCW 43.21C and WAC 197-11) and an EIS under NEPA (42 U.S.C. 4321) and implementing regulations of the Council on Environmental Quality (40 CFR parts 1500-1508) and HUD (24 CFR Part 58).

Alternatives: SHA proposes to redevelop the Yesler Terrace site into a mixed use, mixed income community. The six following alternatives are evaluated in the DEIS, in no order of preference:

Alternative 1 (Lower Density Mixed Use): This alternative represents the lower range of potential mixed use redevelopment of the site, which could include approximately 3,000 housing units; 800,000 square feet (SF) of office use (a portion of which could be hotel use); 40,000 SF of neighborhood commercial; 50,000 SF of neighborhood services (including the Yesler Community Center); 6.0 acres of public open space; 7.3 acres of semi-private and private open space; and 3,900 parking spaces within or under buildings.

Alternative 1A (Lower Density Mixed Use with Less Office): Alternative 1A represents a variation of Alternative 1 wherein most proposed land uses would be similar to Alternative 1. This alternative could include approximately 3,000 housing units; 400,000 square feet (SF) of office use; 40,000 SF of neighborhood commercial; 50,000 SF of neighborhood services (including the Yesler Community Center); 6.0 acres of public open space; 7.8 acres of semi-private and private open space; and 3,300 parking spaces within or under buildings.

Alternative 2 (Medium Density Mixed Use): Alternative 2 represents the middle range of potential mixed use redevelopment of the site, which could include approximately: 4,000 dwelling units; 1,000,000 million SF of office (a portion of which could be hotel use); 60,000 SF of neighborhood commercial; 50,000 SF of neighborhood services (including the Yesler Community Center); 6.5 acres of public open space, 9.4 acres of private and semi-private open space; and 5,100 parking spaces within or under buildings.

Alternative 3 (Higher Density Mixed Use): Alternative 3 represents the higher range of potential mixed use redevelopment of the site, which could include approximately: 5,000 dwelling units; 1,200,000 SF of office (a portion of which could be hotel use); 88,000 SF of neighborhood commercial; 50,000 SF of neighborhood services (including the Yesler Community Center); 6.9 acres of public open space; 9.2 acres of private and semi-private open space; and 6,300 parking spaces within or under buildings.

Alternative 4 (Existing/L-3 Zoning): Alternative 4 represents the lowest amount of residential development among the redevelopment alternatives, and does not include office or hotel uses. The proposed new Lowrise-3 (L3) zoning designation would govern future redevelopment of West of Boren sectors. Redevelopment in the East of Boren sector would occur under existing zoning (MR and NC3). Redevelopment under this alternative would include approximately: 1,523 dwelling units, 10,000 SF of neighborhood commercial (located east of Boren Avenue only); 5.2 acres of public open space; 7.9 acres of private and semi-private open space; and 1,840 parking spaces either within/under buildings and/or located as surface parking stalls (approximately 50 percent of each type).

No-Action Alternative: The no-action alternative represents a continuation of the site in its present condition. As under Alternative 4, the existing City of Seattle Lowrise-3 zoning designations would govern potential replacement of existing buildings west of Boren Avenue and the MR and NC3 zoning designations would govern replacement of existing buildings east of Boren Avenue.

Probable Environmental Effects: The following subject areas will be analyzed in the combined EIS for probable environmental effects: Earth; air quality; water; plants and animals; climate change and greenhouse gas emissions; environmental health; noise; land use; relationship to plans and policies; aesthetics, light and glare, and shadows; historic resources; cultural resources; transportation; utilities; public services; socioeconomics; and environmental justice.

Lead Agencies: As a lead agency, the City of Seattle, through its Human Services Department, is the responsible entity (RE) for this project in accordance with 24 CFR part 58, “Environmental Review Procedures for Entities Assuming HUD Environmental Responsibilities.” As a RE, the City of Seattle Human Services Department assumes the responsibility for environmental review, decision-making, and action that would otherwise apply to HUD under NEPA. In addition, the Seattle Housing Authority is the State Environmental Policy Act (SEPA) lead agency responsible for preparing an Environmental Impact Statement (EIS).

Questions may be directed to the individuals named in this notice under the heading FOR FURTHER INFORMATION CONTACT.

Dated: October 27, 2010.
Mercedes M. Márquez,
Assistant Secretary for Community Planning and Development.

[FR Doc. 2010-27682 Filed 11-1-10; 8:45 am]

BILLING CODE 4210-67-P